DEPARTMENT OF HOMELAND SECURITY

Agency Information Collection Activities: Citizenship and Immigration Services Ombudsman Request for Case Assistance Form (DHS Form 7001)

AGENCY: Department of Homeland Security, DHS.

ACTION: 30-Day notice and request for comments; Extension of a currently approved collection, 1601-0004.

SUMMARY: The Department of Homeland Security, DHS will submit the following information collection request (ICR) to the Office of Management and Budget (OMB) for review and clearance in accordance with the Paperwork Reduction Act of 1995. DHS previously published this information collection request (ICR) in the Federal Register on March 25,2025 or a 60-day public comment period. No comments were received by DHS. At the time of publication, DHS was seeking a Revision to the previously approved collection. Up on publication of this 30 Day Notice DHS will now be seeking an Extension of the previously approved collection. DHS is not seeking a revision. The purpose of this notice is to allow additional 30-days for public comments.

DATES: Comments are encouraged and will be accepted until October 27, 2025. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: The Office of the Citizenship and Immigration Services Ombudsman (CIS Ombudsman) was created under section 452 of the Homeland Security Act of 2002 (Pub. L. 107-296) to: (1) Assist individuals and employers in resolving problems with U.S. Citizenship and Immigration Services (USCIS); (2) to identify areas in which individuals and employers have problems in dealing with USCIS; and (3) to the extent possible, propose changes in the administrative practices of USCIS to mitigate problems. This form is used by an individuals and employers who are experiencing problems with USCIS during the processing of an immigration benefits. The CIS Ombudsman collects and processes requests for case assistance electronically on the DHS Form 7001 through the Case Assistance Analytics and Data Integration (CAADI) system.

• Electronic form: The online form will be updated and posted on the CIS Ombudsman's website at https://www.dhs.gov/caseassistance for electronic submission of the form.

Analysis:

Agency: The Department of Homeland Security.

Title: Citizenship and Immigration Services Ombudsman Request for Case Assistance Form (DHS Form 7001).

OMB Number: 1601-0004.

Frequency: Tri-Annually.

Affected Public: Members of the Public.

Number of Respondents: 18,000.

Estimated Time per Respondent: 1 Hour.

Total Burden Hours: 18,000.

Robert Dorr,
Executive Director, Business Management Directorate.

[FR Doc. 2025-18562 Filed 9-24-25; 8:45 am]

BILLING CODE 9112-FL-P